INTERNATIONAL TRADE COMMISSION

[Investigation No. 337-TA-914]

Certain Sulfentrazone, Sulfentrazone Compositions, and Processes for Making Sulfentrazone; Notice of Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 9) issued by the presiding administrative law judge (“ALJ”) on May 29, 2014, granting the complainant's unopposed motion to amend the complaint and notice of investigation to change the name of a respondent.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 14, 2014, based on a complaint filed by FMC Corporation (“FMC”). 79 FR 20907-08. The complaint alleges violations of section 337 of the Tariff Act of 1930, as amended, 19 U.S.C. 1337 (“section 337”), in the importation into the United States, the sale for importation, and the sale within the United States after importation of certain sulfentrazone, sulfentrazone compositions, and processes for making sulfentrazone, by reason of infringement of certain claims of U.S. Patent No. 7,169,952. Id. at 20907. The Commission's notice of investigation named as respondents Beijing Nutrichem Science and Technology Stock Co., Ltd., of Beijing, China; Summit Agro USA, LLC, of Cary, North Carolina; Summit Agro North America Holding Corporation of New York, New York; and Jiangxi Heyi Chemicals Co. Ltd. of Jiujiang City, China. Id. at 20908.

On May 23, 2014, FMC filed an unopposed motion to amend the complaint and the notice of investigation to change the name of respondent Beijing Nutrichem Science and Technology Stock Co., Ltd., to Nutrichem Co., Ltd. FMC states that Beijing Nutrichem Science and Technology Stock Co., Ltd. is the literal English translation of the company's Chinese name, but that the company's recent response to the complaint explained that the company's proper English-language name is Nutrichem Co., Ltd. FMC contends that good cause exists to amend the complaint because Nutrichem Co., Ltd. received proper notice of the proceedings, and that such amendment is in the public interest because the name correction will prevent confusion should any remedy be granted in this investigation.

On May 29, 2014, the ALJ issued the subject ID, granting FMC's motion to amend the complaint and the notice of investigation. The ALJ found good cause for granting the motion because the amendment will prevent confusion, and, prejudice, if any, will be minimal. No petitions for review were filed.

The Commission has determined not to review the subject ID.

The authority for the Commission's determination is contained in section 337 of the Tariff Act of 1930, as amended (19 U.S.C. 1337), and in part 210 of the Commission's Rules of Practice and Procedure (19 CFR part 210).

By order of the Commission.
Issued: June 23, 2014.
Jennifer D. Rohrbach,
Supervisory Attorney.

[FR Doc. 2014-15055 Filed 6-26-14; 8:45 am]

BILLING CODE 7020-02-P